Title 3—

The President

Memorandum of April 5, 2022

Addressing the Long-Term Effects of COVID-19

Memorandum for the Heads of Executive Departments and Agencies

By the authority vested in me as President by the Constitution and the laws of the United States of America, it is hereby ordered as follows:

Section 1. Policy. My Administration has made combating the coronavirus disease 2019 (COVID-19) pandemic, and guiding the Nation through the worst public health crisis in more than a century, our top priority. When I came into office, COVID-19 was wreaking havoc on our country—closing our businesses, keeping our kids out of school, and forcing us into isolation. Today, America has the tools to protect against COVID-19 and to dramatically decrease its risks. We move towards a future in which COVID-19 does not disrupt our daily lives and is something we prevent, protect against, and treat.

As we chart the path forward, we remember the more than 950,000 people in the United States lost to COVID-19. They were beloved parents, grandparents, children, siblings, spouses, neighbors, and friends. More than 200,000 children in the United States have lost a parent or caregiver to the disease. Each soul is irreplaceable, and the families and communities left behind are still reeling from profound loss. Many families and communities have already received support from Federal programs that help with the loss they have experienced. As we move forward, we commit to ensuring that families and communities can access these support programs and connect to resources they may need to help with their healing, health, and well-being.

At the same time, many of our family members, neighbors, and friends continue to experience negative long-term effects of COVID-19. Many individuals report debilitating, long-lasting effects of having been infected with COVID-19, often called “long COVID.” These symptoms can happen to anyone who has had COVID-19—including individuals across ages, races, genders, and ethnicities; individuals with or without disabilities; individuals with or without underlying health conditions; and individuals whether or not they had initial symptoms. Individuals experiencing long COVID report experiencing new or recurrent symptoms, which can include anxiety and depression, fatigue, shortness of breath, difficulty concentrating, heart palpitations, disordered sleep, chest and joint pain, headaches, and other symptoms. These symptoms can persist long after the acute COVID-19 infection has resolved. Even young people and otherwise healthy people have reported long COVID symptoms that last for many months. These symptoms may be affecting individuals' ability to work, conduct daily activities, engage in educational activities, and participate in their communities. Our world-class research and public health organizations have begun the difficult work of understanding these new conditions, their causes, and potential prevention and treatment options. Our health care and support programs are working to help meet the needs of individuals experiencing the lasting effects of COVID-19. To organize the Federal Government's response, executive departments and agencies (agencies) must work together to use the expertise, resources, and benefit programs of the Federal Government to ensure that we are accelerating scientific progress and providing individuals with the support and services they need.

In addition, the American public is grappling with a mental health crisis exacerbated by the pandemic. Too many have felt the effects of social isolation, sickness, economic insecurity, increased caregiver burdens, and grief. My Administration has made significant investments in mental health as well as substance use disorder prevention, treatment, and recovery support for the American public, including by expanding access to community-based behavioral health services. We are committed to advancing these behavioral health efforts in order to better identify the effects of the pandemic on mental health, substance use, and well-being, and to take steps to address these effects for the people we serve.

Our Nation can continue to protect the public—and spare countless families from the deepest pain imaginable—if everybody does their part. Today, we have numerous tools to protect ourselves and our loved ones from COVID-19—from vaccines to tests, treatments, masks, and more. My Administration recognizes the toll of this pandemic on the American public and commits to redoubling our efforts to support the American people in addressing the long-term effects of COVID-19 on their lives and on society.

Sec. 2. Organizing the Government-Wide Response to the Long-Term Effects of COVID-19. (a) The Secretary of Health and Human Services (Secretary) shall coordinate the Government-wide response to the long-term effects of COVID-19. My Administration will harness the full potential of the Federal Government, in coordination with public- and private-sector partners, to mount a full and effective response. The Secretary shall report on the coordination efforts to the Coordinator of the COVID-19 Response and Counselor to the President and to the Assistant to the President for Domestic Policy.

(b) The heads of agencies shall assist and provide information to the Secretary, consistent with applicable law, as may be necessary to carry out the Secretary's duties described in subsection (a) of this section.

(c) In performing the duties described in subsection (a) of this section, the Secretary shall seek information from relevant nongovernmental experts, organizations, and stakeholders, including individuals affected directly by the long-term effects of COVID-19. The Secretary shall consider using all available legal authorities, as appropriate and consistent with applicable law, to assist in gathering relevant information, including a waiver under 42 U.S.C. 247d(f).

Sec. 3. Report on the Long-Term Effects of COVID-19. The Secretary, supported within the Department of Health and Human Services by the Assistant Secretary for Health and the Assistant Secretary for Mental Health and Substance Use, shall publish a public report within 120 days of the date of this memorandum outlining services and mechanisms of support across agencies to assist the American public in the face of the far-reaching and long-term effects of COVID-19. The report shall outline Federal Government services to support individuals experiencing long COVID, individuals and families experiencing a loss due to COVID-19, and all those grappling with mental health and substance use issues in the wake of this pandemic. The report shall also specifically address the long-term effects of COVID-19 on underserved communities and efforts to address disparities in availability and adoption of services and support for such communities.

Sec. 4. National Research Action Plan on Long COVID. (a) Coordinated efforts across the public and private sectors are needed to advance progress in prevention, diagnosis, treatment, and provision of services for individuals experiencing long COVID. The Secretary, supported by the Assistant Secretary for Health and in collaboration with the Secretary of Defense, the Secretary of Labor, the Secretary of Energy, and the Secretary of Veterans Affairs, shall coordinate a Government-wide effort to develop the first-ever interagency national research agenda on long COVID, to be reflected in a National Research Action Plan. The National Research Action Plan will build on ongoing efforts across the Federal Government, including the landmark RECOVER Initiative implemented by the National Institutes of Health. The Secretary shall release the jointly developed National Research Action Plan within 120 days of the date of this memorandum.

(b) The National Research Action Plan shall build upon existing research efforts and include strategies to:

(i) help measure and characterize long COVID in both children and adults, including with respect to its frequency, severity, duration, risk factors, and trends over time;

(ii) support the development of estimates on prevalence and incidence of long COVID disaggregated by demographic groups and symptoms;

(iii) better understand the epidemiology, course of illness, risk factors, and vaccine effectiveness in prevention of long COVID;

(iv) advance our understanding of the health and socioeconomic burdens on individuals affected by long COVID, including among different race and ethnicity groups, pregnant people, and those with underlying disabilities;

(v) foster development of new treatments and care models for long COVID based on a better understanding of the pathophysiological mechanisms of the SARS-CoV-2 virus;

(vi) inform decisions related to high-quality support, services, and interventions for long COVID;

(vii) improve data-sharing between agencies and academic and industry researchers about long COVID, to the extent permitted by law; and

(viii) specifically account for the pandemic's effect on underserved communities and rural populations.

Sec. 5. General Provisions. (a) Nothing in this memorandum shall be construed to impair or otherwise affect:

(i) the authority granted by law to an executive department or agency, or the head thereof; or

(ii) the functions of the Director of the Office of Management and Budget relating to budgetary, administrative, or legislative proposals.

(b) This memorandum shall be implemented consistent with applicable law and subject to the availability of appropriations.

(c) This memorandum is not intended to, and does not, create any right or benefit, substantive or procedural, enforceable at law or in equity by any party against the United States, its departments, agencies, or entities, its officers, employees, or agents, or any other person.

(d) The Secretary is authorized and directed to publish this memorandum in the Federal Register.

THE WHITE HOUSE,

Washington, April 5, 2022

[FR Doc. 2022-07756

Filed 4-7-22; 11:15 am]

Billing code 4150-42-P